FEDERAL COMMUNICATIONS COMMISSION

[Report No. 2505]

Petition for Reconsideration and Clarification of Action in Rulemaking Proceeding

September 27, 2001.

Petition for Reconsideration and Clarification has been filed in the Commission's rulemaking proceeding listed in this Public Notice and published pursuant to 47 CFR section 1.429(e). The full text of this document is available for viewing and copying in Room CY-A257, 445 12th Street, SW., Washington, DC, or may be purchased from the Commission's copy contractor, Qualex International (202) 863-2893. Oppositions to this petition must be filed by October 19, 2001. See section 1.4(b)(1) of the Commission's rules (47 CFR 1.4(b)(1)). Replies to an opposition must be filed within 10 days after the time for filing oppositions has expired.

Subject: Deployment of Wireline Services Offering Advanced Telecommunications Capability (CC Docket No. 98-147).

Magalie Roman Salas,
Secretary.

[FR Doc. 01-24860 Filed 10-3-01; 8:45 am]

BILLING CODE 6712-01-M